NATIONAL SCIENCE FOUNDATION

Committee on Equal Opportunities in Science and Engineering; Notice of Meeting

In accordance with the Federal Advisory Committee Act (Public Law 92-463, as amended), the National Science Foundation announces the following meeting:

Name: Committee on Equal Opportunities in Science and Engineering (1173).

Dates/Time: October 25, 2004, 8:30 a.m.—5:30 p.m. and October 26, 2004, 8:30 a.m.—2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230. Telephone: (703) 292-8040.

Minutes: May be obtained from the Executive Liaison at the above address.

Purpose of Meeting: To provide advice and recommendations concerning broadening participation in science and engineering.

Agenda:

Monday, October 25, 2004

Welcome by the CEOSE Chair.

Introduction of New Members.

Review of the CEOSE Meeting Agenda.

Discussions:

CEOSE Meetings Held at Little Big Horn and Chief Dull Knife Colleges in Montana;

Meeting with Dr. Ardent L. Bement, Acting Director of the National Science Foundation.

Congressionally Required Ten-Year Reports Prepared by CEOSE Members.

Tuesday, October 26, 2004

Opening Statement by the CEOSE Chair.

Presentations:

Response to Action items in the CEOSE Meeting Minutes;

Report on Mentoring Workshop;

Reports on NSF Advisory Committees;

Changes in SESTAT;

Data on Persons with Disabilities.

Discussions:

Plans for the CEOSE 2004 Biennial Report to Congress;

Recommendations by CEOSE;

Dates for Future CEOSE Meetings.

Dated: September 28, 2004.
Susanne Bolton,
Committee Management Officer.

[FR Doc. 04-22222 Filed 10-01-04; 8:45 am]

BILLING CODE 7555-01-M